DEPARTMENT OF THE INTERIOR

National Park Service

36 CFR Part 7

RIN 1024-AC67

Special Regulations; Areas of the National Park System

AGENCY: National Park Service, Interior.

ACTION: Final rule.

SUMMARY: The National Park Service (NPS) is adopting this final rule to designate as snowmobile routes on NPS administered Appalachian National Scenic Trail lands, portions of snowmobile trails that are part of a State-approved network of snowmobile routes and that cross the Appalachian Trail corridor. Snowmobile use on these routes is established. The Park Manager is also provided the discretion to designate temporary snowmobile crossings in the Compendium of Superintendent's Orders.

DATES: This rule becomes effective March 27, 2002.

FOR FURTHER INFORMATION CONTACT: Pamela Underhill, Park Manager, Appalachian National Scenic Trail, National Park Service, Harpers Ferry Center, Harpers Ferry, WV 25425. Telephone 304-535-6278. Email: Pamela_Underhill@nps.gov.

SUPPLEMENTARY INFORMATION:

Background

The regulation designates as snowmobile routes on NPS administered Appalachian National Scenic Trail lands, portions of snowmobile trails that are part of a State-approved network of snowmobile routes that cross NPS administered lands in order to connect with other state approved routes. The regulation designates the minimum number of crossings necessary to accommodate statewide snowmobile trail networks.

The Appalachian Trail is a north-south hiking trail that stretches nearly 2,160 miles from Katahdin, Maine, to Springer Mountain, Georgia, along the crest of the Appalachian Mountains. The Trail is administered by the Secretary of the Interior through the NPS, in consultation with the Secretary of Agriculture through the U.S. Forest Service, as part of the National Trails System. Upon completion of the land protection program, the NPS will have protected approximately 800 miles of the Trail and approximately 100,000 acres of land. Because NPS administered lands are intermingled with private, local, state and other Federal government lands, differing regulations apply and varying land uses are allowed. These agencies have become partners in the Appalachian Trail cooperative management system. The linear nature of the resource and the varied land ownership patterns require special consideration in management planning.

Generally, any motorized use along the Appalachian Trail is prohibited, including snowmobiles. However the National Trails System Act provides for limited authority for allowing snowmobile use for crossings, emergencies, and for adjacent landowners:

The use of motorized vehicles by the general public along any national scenic trail shall be prohibited and nothing in this chapter shall be construed as authorizing the use of motorized vehicles within the natural and historical areas of the national park system, the national wildlife refuge system, the national wilderness preservation system where they are presently prohibited or on other federal lands where they are presently prohibited or on other Federal lands where trails are designated as being closed to such use by the appropriate Secretary: Provided, That the Secretary charged with the administration of such trail shall establish regulations which shall authorize the use of motorized vehicles when, in his judgment, such vehicles are necessary to meet emergencies or to enable adjacent landowners or land users to have reasonable access to their lands or timber rights . . . (16 U.S.C. 1246 (c)).

The regulation allows limited snowmobile crossings of the Appalachian Trail while still prohibiting such use along the trail. Additionally, the limited use is consistent with the Federal government's obligations to provide access for emergencies and to owners of lands adjacent to the Trail.

36 CFR 2.18 of the NPS general regulations prohibits the use of snowmobiles in units of the National Park System except on routes designated specifically for snowmobile use. These specific routes must be authorized through promulgation of special regulations. Snowmobile use may occur only on designated routes and when the use is consistent with the park's natural, cultural, scenic and aesthetic values, safety considerations, park management objectives, and will not disturb wildlife or damage park resources. Section 2.18 establishes further procedures and criteria for the use of snowmobiles within park areas. The term “snowmobile” is defined in § 1.4 and conforms to the standard definition used by the International Snowmobile Industry Association. The NPS does not intend that this definition be broadly interpreted to include any other motorized or non-motorized off-road vehicles.

During the development of the NPS land protection program, the issue of continuing use of existing snowmobile crossings of the planned Trail corridor was raised by adjacent landowners, snowmobile organizations and state agencies. The NPS assured interested parties that establishment of the permanent linear trail corridor would not sever established snowmobile routes. For the purposes of this Special Regulation, established snowmobile routes are considered to be those routes in use at the time of NPS land acquisition. The NPS has worked closely with state snowmobile organizations and state agencies to identify only those routes that are part of a State-approved network of snowmobile routes.

There are a number of crossings of the Appalachian Trail corridor by established, State-approved snowmobile trails in Maine, New Hampshire, Vermont, Massachusetts and Connecticut. Most of these crossings are currently allowed by deeded right-of-way reserved by the seller or by public road right-of-way. Three State-approved snowmobile trails, two in Maine and one in Massachusetts cross lands acquired for the protection of the Appalachian Trail and would require designation. The NPS intends to designate only the State approved routes that are existing crossings of the trail corridor and part of a State network of snowmobile routes. Within the NPS corridor, snowmobile travel will be limited to the designated crossing only. Snowmobiles will not be permitted to follow the trail footpath itself. Snowmobile use of other NPS Appalachian Trail corridor lands will not be allowed.

A proposed regulation was published in the Federal Register on March 19, 1998 (63 FR 13383). Public comment was invited. The comment period closed May 18, 1998.

Summary of Comments Received

During the public comment period, the NPS received two letters. Both of the respondents to the proposed rule endorsed the proposed special regulation. The respondents stated that the regulation would fulfill commitments made to the snowmobile community that acquisition for the Appalachian Trail would not sever existing snowmobile routes while limiting motorized recreation within the trail corridor.

Drafting Information

The principal authors of this rulemaking are Robert W. Gray, Park Ranger, Appalachian National Scenic Trail and Dennis Burnett, Washington Office of Ranger Activities, National Park Service.

Compliance with Laws, Executive Orders and Department Policy

Regulatory Planning and Review (Executive Order 12866)

This document is not a significant rule and is not subject to review by the Office of Management and Budget under Executive Order 12866.

(1) This rule will not have an effect of $100 million or more on the economy. It will not adversely affect in a material way the economy, productivity, competition, jobs, the environment, public health or safety, or State, local or tribal governments or communities. This rule establishes designated routes for snowmobile use across the Trail and would cause only a small economic benefit to the local communities, if any.

(2) This rule will not create a serious inconsistency or otherwise interfere with an action taken or planned by another agency. This rule supports local government and community plans for snowmobile routes that already exist.

(3) This rule does not alter the budgetary effects or entitlements, grants, user fees, or loan programs or the rights or obligations of their recipients. There are no budgetary considerations involved in this rule.

(4) This rule does not raise novel legal or policy issues. This rule codifies snowmobile use that previously existed.

Regulatory Flexibility Act

The Department of the Interior determined that this document will not have a significant economic effect on a substantial number of small entities under the Regulatory Flexibility Act (5 USC 601 et seq.). This rule codifies existing use of snowmobile routes and merely maintains use levels; it does not restrict or prohibit current use patterns so would not likely have any economic impact.

Small Business Regulatory Enforcement Fairness Act (SBREFA)

This rule is not a major rule under 5 U.S.C. 804(2), the Small Business Regulatory Enforcement Fairness Act. This rule:

a. Does not have an annual effect on the economy of $100 million or more. This rule is not expected to have any effect on the economy since the rule does not change existing uses in any way.

b. Will not cause a major increase in costs or prices for consumers, individual industries, Federal, State, or local government agencies, or geographic regions. No increase is expected since the rule does not change existing uses in any way.

c. Does not have significant adverse effects on competition, employment, investment, productivity, innovation, or the ability of U.S.-based enterprises to compete with foreign-based enterprises. No effects are expected since the rule does not change existing uses in any way.

Unfunded Mandates Reform Act

This rule does not impose an unfunded mandate on State, local, or tribal governments or the private sector of more than $100 million per year. The rule does not have a significant or unique effect on State, local or tribal governments or the private sector. This rule poses no mandates on the government or private sector. The use of snowmobile routes on the Trail is a voluntary activity.

Takings (Executive Order 12630)

In accordance with Executive Order 12630, the rule does not have significant takings implications. This rule codifies existing snowmobile use and does not have implications on lands outside the Trail.

Federalism (Executive Order 13132)

In accordance with Executive Order 13132, the rule does not have sufficient federalism implications to warrant the preparation of a Federalism Assessment. This rule codifies existing snowmobile use and does not place any requirements on State governments.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

This rule does not constitute a major Federal action significantly affecting the quality of the human environment. In accordance with 516 DM 6, Appendix 7.4 A(10), the NPS has determined that this rulemaking will not have a significant effect on the quality of the human environment, health and safety because it is not expected to (a) increase public use to the extent of compromising the nature and character of the area or causing physical damage to it, (b) introduce incompatible uses which compromise the nature and character of the area or cause physical damage to it, (c) conflict with adjacent ownerships or land uses, or (d) cause a nuisance to adjacent owners or occupants. A Categorical Exclusion Determination has been completed.

Government-to-Government Relationship with Tribes

In accordance with Executive Order 13175 “Consultation with Indian Tribal Governments” (65 FR 67249) and the President's memorandum of April 29, 1994, “Government-to-Government Relations with Native American Tribal Governments” (59 FR 22951), and 512 DM 2, we have evaluated potential effects on Federally recognized Indian tribes and have determined that there are no potential effects. This rule solely affects snowmobile users who choose to use the crossing routes designated in this rule and does not have any effects on lands or entities outside the NPS.

List of Subject in 36 CFR Part 7

National parks, District of Columbia, Reporting and recordkeeping requirements

In consideration of the foregoing, 36 CFR Part 7 is amended as follows:

PART 7—SPECIAL REGULATIONS, AREAS OF THE NATIONAL PARK SYSTEM

1. The authority citation for Part 7 continues to read as follows:

Authority: 16 U.S.C. 1, 3, 9a, 460(q), 462(k); § 7.96 also issued under D.C. Code 8-137 (1981) and D.C. Code 40-721 (1981).

2. Revise § 7.100 to read as follows:

§ 7.100 Appalachian National Scenic Trail.

(a) What activities are prohibited?

(1) The use of bicycles, motorcycles or other motor vehicles is prohibited. The operation of snowmobiles is addressed in paragraph (b).

(2) The use of horses or pack animals is prohibited, except in locations designated for their use.

(b) Where can I operate my snowmobile?

(1) You may cross the Appalachian National Scenic Trail corridor by using established, State-approved snowmobile trails in Maine, New Hampshire, Vermont, Massachusetts and Connecticut that are allowed by deeded right-of-way reserved by the seller or by public road right-of-way. You may also cross National Park Service administered lands within the Appalachian National Scenic Trail corridor at the following locations:

(2) Nahmakanta Lake Spur—The spur snowmobile route that leads from Maine Bureau of Parks and Lands Debsconeag Pond Road to the southeastern shore of Nahmakanta Lake.

(3) Lake Hebron to Blanchard-Shirley Road Spur—The spur snowmobile route that leads from Lake Hebron near Monson, Maine to the Maine Interconnecting Trail System Route 85 near the Blanchard-Shirley Road.

(4) Massachusetts Turnpike to Lower Goose Pond Crossing—That part of the Massachusetts Interconnecting Trail System Route 95 from the Massachusetts Turnpike Appalachian Trail Bridge to the northeastern shore of Lower Goose Pond.

(5) Temporary crossings of National Park Service administered Appalachian Trail corridor lands may be designated by the Park Manager in the Superintendent's Compendium of Orders when designated snowmobile routes are temporarily dislocated by timber haul road closures.

(6) Maps that show the crossings of National Park Service administered lands within the Appalachian National Scenic Trail may be obtained from the Park Manager, Appalachian National Scenic Trail, Harpers Ferry Center, Harpers Ferry, West Virginia 25425.

(c) Is powerless flight permitted? The use of devices designed to carry persons through the air in powerless flight is allowed at times and locations designated by the Park Manager, pursuant to the terms and conditions of a permit.

Dated: February 1, 2002.
Joseph E. Doddridge,
Acting Assistant Secretary, Fish and Wildlife and Parks.

[FR Doc. 02-4339 Filed 2-22-02; 8:45 am]

BILLING CODE 4310-70-P